DEPARTMENT OF DEFENSE

Department of the Navy

Notice of Fiscal Year 2019 Performance Review Board Membership

AGENCY: Department of the Navy, DoD.

ACTION: Notice.

SUMMARY: The Department of Navy (DON) announces the appointment of members to the DON Senior Executive Service (SES), Senior Level (SL), and Scientific and Professional (ST) Fiscal Year 2019 Performance Review Board (PRB). The purpose of the PRB is to provide fair and impartial review of the annual SES performance appraisal prepared by the senior executive's immediate and second level supervisor; to make recommendations to appointing officials regarding acceptance or modification of the performance rating; and to make recommendations for performance-based bonuses and performance-based pay increases.

FOR FURTHER INFORMATION CONTACT: Leslie Joseph, Director, Executive Management Program Office, Office of Civilian Human Resources at 202-685-6186.

SUPPLEMENTARY INFORMATION: Composition of the specific PRB is provided below:

Ms. Catherine Donovan

Ms. Steffanie Easter

Mr. Robert Hogue

Ms. Jennifer LaTorre

Mr. Garry Newton

Mr. Gary Ressing

Ms. Anne Sandel

Mr. James Smerchansky

Mr. Frederick Stefany

Ms. B. Lynn Wright

Mr. Robert Woods

(Authority: 5 U.S.C. 4314(c)(4))

Dated: October 7, 2019.
D.J. Antenucci,
Commander, Judge Advocate General's Corps, U.S. Navy, Federal Register Liaison Officer.

[FR Doc. 2019-24175 Filed 11-5-19; 8:45 am]

BILLING CODE 3810-FF-P